NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (CEOSE) Advisory Committee Meeting (#1173)

Dates/Time: February 25, 2015 1:00PM-5:00 p.m. February 26, 2015 8:30a.m.-3:30 p.m.

Place: National Science Foundation (NSF), 4201 Wilson Boulevard, Arlington, VA 22230

To help facilitate your entry into the building, please contact Vickie Fung (vfung@nsf.gov) on or prior to February 23, 2015.

Type of Meeting: Open

Contact Person: Dr. Bernice Anderson, Senior Advisor and CEOSE Executive Secretary, Office of International and Integrative Activities (IIA), National Science Foundation, 4201 Wilson Boulevard, Arlington, VA 22230. Telephone Numbers: 703-292-8040 banderso@nsf.gov

Minutes: Meeting minutes and other information may be obtained from the CEOSE Executive Secretary at the above address or the Web site at http://www.nsf.gov/od/iia/activities/ceose/index.jsp

Purpose of Meeting: To study data, programs, policies, and other information pertinent to the National Science Foundation and to provide advice and recommendations concerning broadening participation in science and engineering.

Agenda: Opening Statement by the CEOSE Chair NSF Executive Liaison Report Discussions:

Leadership Panel Discussion: FY2015 Broadening Participation Efforts

NSF Broadening Participation Framework for Action

Partnering to Further the Diversification of the STEM Workforce

Accessibility and Careers in STEM

Gender Dimension in Research Content and Process

Reports of CEOSE Liaisons to NSF Advisory Committees

2013-2014 CEOSE Biennial Report to Congress

Updates from the Federal Liaisons

Dated: January 21, 2015.
Suzanne Plimpton,
Acting Committee Management Officer.

[FR Doc. 2015-01322 Filed 1-23-15; 8:45 am]

BILLING CODE 7555-01-P